DEPARTMENT OF COMMERCE

Foreign-Trade Zones Board

[B-64-2022]

Foreign-Trade Zone (FTZ) 75—Phoenix, Arizona; Notification of Proposed Production Activity; TSMC Arizona Corporation (Semiconductor Wafers); Phoenix, Arizona

TSMC Arizona Corporation submitted a notification of proposed production activity to the FTZ Board (the Board) for its facility in Phoenix, Arizona within Subzone 75O. The notification conforming to the requirements of the Board's regulations (15 CFR 400.22) was received on December 13, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is semiconductor wafers (duty rate is duty-free).

The proposed foreign-status materials and components include: methane (liquid; gas); chlorine; hydrogen; helium; xenon; nitrogen; acids (hydrochloric; nitric; phosphoric; hydrofluoric also known as hydrogen fluoride); hydrogen chloride; acid based solutions (phosphoric; acetic; nitric); silicate reagent; hydrogen bromide; carbon dioxide; silica; carbon monoxide; dinitrogen monoxide also known as nitrous oxide; nitric oxide; sulfur dioxide; boron trichloride; dichlorosilane; silane; silicon tetrachloride; chlorine trifluoride; diiodosilane; nitrogen trifluoride; anhydrous ammonia; ammonia; potassium hydroxide; slurries (potassium hydroxide based; cerium hydroxide based; polyglycerol polymer based; acetic acid based; ammonium hydroxide based; amorphous silica based; cerium dioxide based; potassium hydroxide based; silica based; tetraethylammonium hydroxide based; silica and phosphoric acid based); sulfur hexafluoride gas; tungsten hexafluoride; titanium tetrachloride; carbonyl sulfide; solutions (copper sulphate; potassium chloride electrode filling; hydrocarbon deposition; N-methylethanolamine; potassium chloride based; methyl 2-hydroxyisobutyrate based photoresist; propylene glycol monomethyl ether acetate based photoresist; surfactant; triethanolamine based; 4-morpholinecarbaldehyde based; ammonium fluoride based; cobalt based; ethylene glycol based; tetrahydrothiophene-1,1-dioxide based); hydrogen peroxide; disilane; n-octane; ethyne also known as acetylene; trifluoromethane; tetrafluoromethane also known as perfluromethane; hexafluoro-1,3-butadiene; octafluorocyclobutane; alcohols (isopropyl; tert-butyl); hexachlorodisilane; 2-heptanone; cyclohexanone; cyclopentanone; butyl acetate; propylene glycol monomethyl ether acetate; pentakis(dimethylamino)tantalum(V) powder; tetrakis(methylethylamino)zirconium; developer solutions (tetramethylammonium hydroxide; isobutyl propionate based); bis(diethylamino)silane; hexamethyldisilazane photoresist; N,N-bis(1-methylethyl)silanamine; tetramethylsilane; triethylaluminum; trimethylaluminum; trimethylsilane; butyrolactone; 2-propanol, 1-methoxy-, 2-acetate based undercoat material; wafer cleaning solutions (butoxyethanol based; ethanolamine based; hydroxyethanediphosphonic acid based); mixtures (photoresist chemical; diborane and argon; diborane and hydrogen; fluorine and nitrogen; helium and nitrogen; helium based compressed gas; hydrogen and argon; hydrogen and helium; hydrogen and nitrogen; methane and argon; oxygen and helium; xenon and hydrogen); cleaning solvents (dimethyl sulfoxide based; tetramethylammonium hydroxide based); propylene glycol monomethylether based solvents; semi-processed semiconductor silicon wafers (doped; raw; reclaimed); benzotriazole based cleaning solutions; anti-reflective photoresist chemical coatings; copper anode discs; and, sputtering targets (cobalt; copper; tantalum; titanium) (duty rate ranges from duty-free to 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is February 6, 2023.

A copy of the notification will be available for public inspection in the “Online FTZ Information System” section of the Board's website.

For further information, contact Juanita Chen at juanita.chen@trade.gov.

Dated: December 21, 2022.
Andrew McGilvray,
Executive Secretary.

[FR Doc. 2022-28219 Filed 12-27-22; 8:45 am]

BILLING CODE 3510-DS-P